DEPARTMENT OF LABOR

Employment and Training Administration

[TA-W-85,104]

Fisher and Ludlow, a Nucor Company, Saegertown, Pennsylvania; Notice of Revised Determination on Reconsideration

On May 28, 2014, the Department issued an Affirmative Determination Regarding Application for Reconsideration of the negative determination regarding workers' eligibility to apply for Alternative Trade Adjustment Assistance (ATAA) applicable to workers and former workers of Fisher and Ludlow, a Nucor Company, Saegertown, Pennsylvania (subject firm). The Department's Notice was published in the Federal Register on June 13, 2014 (79 FR 33955).

The group eligibility requirements for workers of a firm under Section 246(a)(3)(A)(ii) of the Trade Act are satisfied if the following criteria are met:

(I) Whether a significant number of workers in the workers' firm are 50 years of age or older;

(II) Whether the workers in the workers' firm possess skills that are not easily transferable; and

(III) The competitive conditions within the workers' industry (i.e., conditions within the industry are adverse).

The negative determination for ATAA was based on the findings that Section 246(a)(3)(A)(ii)(II) was not met because the workers in the workers' firm possess skills that are easily transferrable and Section 246(a)(3)(A)(ii)(III) was not met because conditions within the workers' industry were not found to be adverse.

During the reconsideration investigation, the Department collected information from the subject firm which revealed that the group eligibility requirements under Section 246(a)(3)(A)(ii) of the Trade Act was satisfied.

Conclusion

After careful review of the additional facts obtained on reconsideration, I determine that workers of the subject firm meet the worker group certification criteria under Section 222(a) of the Act, 19 U.S.C. § 2272(a). In accordance with Section 223 of the Act, 19 U.S.C. § 2273, I make the following certification:

All workers of Fisher and Ludlow, a Nucor Company, Saegertown, Pennsylvania, who became totally or partially separated from employment on or after February 27, 2013, through April 8, 2016, are eligible to apply for adjustment assistance under Chapter 2 of Title II of the Trade Act of 1974, as amended, and are also eligible to apply for alternative trade adjustment assistance under Section 246 of the Trade Act of 1974, as amended.

Signed in Washington, DC, this 7th day of July, 2014.
Del Min Amy Chen,
Certifying Officer, Office of Trade Adjustment Assistance.

[FR Doc. 2014-17435 Filed 7-23-14; 8:45 am]

BILLING CODE 4510-FN-P